NEIGHBORHOOD REINVESTMENT CORPORATION

NeighborWorks® America; Regular Board of Directors Meeting; Sunshine Act

Time and Date: 10 a.m., Tuesday, March 4, 2008.

Place: 1325 G Street NW., Suite 800, Boardroom, Washington, DC 20005.

Status: Open.

Contact Person for More Information: Erica Hall, Assistant Corporate Secretary, (202) 220-2376; ehall@nw.org.

Agenda:

I. Call to Order

II. Approval of the Minutes

III. Summary Report of the Audit Committee

IV. Summary Report of the Corporate Administration Committee

V. Summary Report of the Finance, Budget and Program Committee

VI. Financial Report

VII. Chief Executive Officer's Quarterly Management Report

VIII. Connecticut Housing Finance Agency Nondiscrimination Resolution

IX. Field Operations Presentation

X. Adjournment

Erica Hall,
Assistant Corporate Secretary.

[FR Doc. 08-943 Filed 2-29-08; 8:45 am]

BILLING CODE 7570